DEPARTMENT OF STATE

[Public Notice 7217]

Culturally Significant Objects Imported for Exhibition Determinations: “Object of Devotion: Medieval English Alabaster Sculpture From the Victoria and Albert Museum”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000, I hereby determine that the objects to be included in the exhibition “Object of Devotion: Medieval English Alabaster Sculpture from the Victoria and Albert Museum,” imported from abroad for temporary exhibition within the United States, are of cultural significance. The objects are imported pursuant to loan agreements with the foreign owners or custodians. I also determine that the exhibition or display of the exhibit objects at the Society of the Four Arts, Palm Beach, FL, from on or about December 2, 2010, until on or about January 16, 2011; at Bowdoin College Museum of Art, Brunswick, ME, from on or about February 5 until on or about May 15, 2011; at Tyler Museum of Art, Tyler, TX, from on or about September 3 until on or about November 13, 2011; at Princeton University Art Museum, Princeton, NJ, from on or about December 3, 2011, until on or about February 12, 2012; at Kalamazoo Institute of Arts, Kalamazoo, MI, from on or about March 3, until on or about May 13, 2012; and at Museum of Art, Brigham Young University, Provo, UT, from on or about June 2 to on or about November 11, 2012, and at possible additional exhibitions or venues yet to be determined, is in the national interest. Public Notice of these Determinations is ordered to be published in the Federal Register.

FOR FURTHER INFORMATION CONTACT: For further information, including a list of the exhibit objects, contact Carol B. Epstein, Attorney-Adviser, Office of the Legal Adviser, U.S. Department of State (telephone: 202/632-6473). The address is U.S. Department of State, SA-5, L/PD, Fifth Floor, Washington, DC 20522-0505.

Dated: October 21, 2010.
Ann Stock,
Assistant Secretary, Bureau of Educational and Cultural Affairs, Department of State.

[FR Doc. 2010-27298 Filed 10-27-10; 8:45 am]

BILLING CODE 4710-05-P